DEPARTMENT OF TRANSPORTATION

Federal Aviation Administration

14 CFR Part 71

[Docket No. FAA-2008-0163; Airspace Docket No. 08-AGL-2]

Amendment of Class E Airspace; Indianapolis, IN

AGENCY: Federal Aviation Administration (FAA), DOT.

ACTION: Direct final rule; confirmation of effective date.

SUMMARY: This action confirms the effective date of a direct final rule that establishes additional Class E airspace at Indianapolis, IN, published in the Federal Register April 2, 2008 (73 FR 17887) Docket No. FAA-2008-0163. This action also makes a minor correction to the geographic coordinates of Hendricks County Gordon Graham Field.

DATES: Effective Date: 0901 UTC June 27, 2008. The Director of the Federal Register approves this incorporation by reference action under Title 1, Code of Federal Regulations, part 51, subject to the annual revision of FAA Order 7400.9 and publication of conforming amendments.

FOR FURTHER INFORMATION CONTACT: Gary Mallett, NISC Contractor, Operations Support Group, ATO Central Service Center, Federal Aviation Administration, Southwest Region, 2601 Meacham Blvd, Fort Worth, TX 76193-0530; at telephone (817) 222-4949.

SUPPLEMENTARY INFORMATION:

History

The FAA published a direct final rule with request for comments in the Federal Register April 2, 2008, (73 FR 17887), Docket No. FAA-2008-0163, that establishes additional Class E airspace at Indianapolis, IN. The FAA uses the direct final rule procedure for non-controversial rules where the FAA believes that there will be no adverse public comment. This direct final rule advised the public that no adverse comments were anticipated, and that unless a written adverse comment, or a written notice of intent to submit an adverse comment, was received within the comment period, the regulation would become effective on June 5, 2008. No adverse comments were received; thus, this notice confirms that the direct final rule will become effective on this date. Also an error was found in the geographic coordinates of Hendricks County Gordon Graham Field. This action corrects that error.

The incorporation by reference in 14 CFR 71.1 of FAA Order 7400.9R, Airspace Designations and Reporting Points, signed August 15, 2007, and effective September 15, 2007, is hereby amended as follows:

Correction

In the Federal Register dated April 2, 2008, (73 FR 14887), Federal Register Docket No. FAA-2008-0163, on page 17888, column 2, line 47, replace the coordinates for Hendricks County-Gordon Graham Field as follows: (Lat. 39°44′48″ N, Long. 86°28′31″ W).

* * * * *

Issued in Fort Worth, TX on June 17, 2008.
Donald R. Smith,
Manager, Operations Support Group, ATO Central Service Center.

[FR Doc. E8-14381 Filed 6-26-08; 8:45 am]

BILLING CODE 4910-13-P